DEPARTMENT OF ENERGY

Federal Energy Regulatory Commission

COMBINED NOTICE OF FILINGS #1

December 27, 2005.

Take notice that the Commission received the following electric rate filings.

Docket Numbers: ER00-2117-003; ER00-2118-003; ER00-3751-003; ER00-1828-003; ER93-493-015.

Applicants: ANP Bellingham Energy Company, LLC; ANP Blackstone Energy Company, LLC; ANP Funding I, LLC; ANP Marketing Company; Milford Power Limited Partnership.

Description: ANP Bellingham Co LLC et al submits updated market power analyses supporting their continued authorization to sell at market-based rates.

Filed Date: 12/14/2005.

Accession Number: 20051219-0353.

Comment Date: 5 p.m. Eastern Time on Wednesday, January 04, 2006.

Docket Numbers: ER00-2398-008; ER99-3427-006.

Applicants: Baconton Power LLC; SOWEGA Power LLC.

Description: SOWEGA Power, LLC & Baconton Power, LLC submits their combined second triennial updated market power analysis.

Filed Date: 12/14/2005.

Accession Number: 20051219-0285.

Comment Date: 5 p.m. Eastern Time on Wednesday, January 04, 2006.

Docket Numbers: ER01-688-002.

Applicants: IPP Energy LLC.

Description: IPP Energy LLC submits its updated market power study and revisions to its Rate Schedule FERC No.1.

Filed Date: 12/13/2005.

Accession Number: 20051215-0059.

Comment Date: 5 p.m. Eastern Time on Tuesday, January 3, 2006.

Docket Numbers: ER01-2398-012.

Applicants: Liberty Electric Power, LLC.

Description: Liberty Electric Power LLC submits a notice of non-material change in status in compliance with the reporting requirements adopted by FERC in Order 652.

Filed Date: 12/13/2005.

Accession Number: 20051215-0056.

Comment Date: 5 p.m. Eastern Time on Tuesday, January 3, 2006.

Docket Numbers: ER03-198-005.

Applicants: Pacific Gas and Electric Company.

Description: Pacific Gas & Electric Co submits its triennial market power analysis in support of its market-based authority tariff.

Filed Date: 12/09/2005.

Accession Number: 20051214-0178.

Comment Date: 5 p.m. Eastern Time on Tuesday, January 3, 2006.

Docket Numbers: ER03-746-000; EL00-95-081; EL00-98-069.

Applicants: California Independent System Operator Corporation; San Diego Gas & Electric Co.; and California Power Exchange.

Description: California Independent System Operator Corp submits its Twenty-Third Status Report on Re-Run Activity including information re processing of offsets and schedule for completion of financial adjustment phase.

Filed Date: 12/12/2005.

Accession Number: 20051214-0166.

Comment Date: 5 p.m. Eastern Time on Tuesday, January 3, 2006.

Docket Numbers: ER05-375-004; ER02-1582-005; ER02-2102-006; ER00-2885-007; ER01-2765-006.

Applicants: Arroyo Energy LP; Mohawk River Funding IV, L.L.C.; Utility Contract Funding, L.L.C.; Cedar Brakes I, L.L.C.; Cedar Brakes II, L.L.C.

Description: Arroyo Energy, LP et al submits an amended notice of non-material change in status.

Filed Date: 12/14/2005.

Accession Number: 20051219-0280.

Comment Date: 5 p.m. Eastern Time on Wednesday, January 4, 2006.

Docket Numbers: ER05-1352-002; RT04-1-018; ER04-48-018.

Applicants: Southwest Power Pool, Inc.

Description: Southwest Power Pool, Inc submits its compliance filing which provides revisions and clarifications to its Bylaws and Membership Agreement.

Filed Date: 12/12/2005.

Accession Number: 20051219-0286.

Comment Date: 5 p.m. Eastern Time on Tuesday, January 3, 2006.

Docket Numbers: ER06-144-000.

Applicants: Progress Energy Service Company.

Description: Progress Energy Service Co's notice of withdrawal and request to terminate revised tariff sheets etc filed on 10/31/05.

Filed Date: 12/13/2005.

Accession Number: 20051219-0209.

Comment Date: 5 p.m. Eastern Time on Tuesday, January 3, 2006.

Docket Numbers: ER06-315-000; ER05-1496-000.

Applicants: American Electric Power Service Corporation.

Description: American Electric Power Service Corp submits First Revised Interconnection and Local Service Agreement as agent for its affiliates Ohio Power Co and Columbus Southern Power Co.

Filed Date: 12/12/2005.

Accession Number: 20051214-0203.

Comment Date: 5 p.m. Eastern Time on Tuesday, January 3, 2006.

Docket Numbers: ER06-316-000.

Applicants: Wisconsin Public Service Corporation.

Description: Wisconsin Public Service Corp submits three revised service agreements with Manitowoc Public Utilities, Washington Island Electric Cooperative, and Upper Peninsula Power Co.

Filed Date: 12/12/2005.

Accession Number: 20051214-0204.

Comment Date: 5 p.m. Eastern Time on Tuesday, January 3, 2006.

Docket Numbers: ER06-317-000.

Applicants: Southern Company Services, Inc.

Description: Southern Co Services Inc, agent for Alabama Power Co et al submits an amendment to Network Integration Transmission Service Agreement No. 467 with Generation Energy Marketing.

Filed Date: 12/13/2005.

Accession Number: 20051215-0061.

Comment Date: 5 p.m. Eastern Time on Tuesday, January 3, 2006.

Docket Numbers: ER06-318-000.

Applicants: North American Energy Credit and Clearing.

Description: North American Energy Credit and Clearing submits its Petition for Acceptance of Initial Rate Schedule, Waivers and Blanket Authority.

Filed Date: 12/13/2005.

Accession Number: 20051215-0067.

Comment Date: 5 p.m. Eastern Time on Tuesday, January 3, 2006.

Docket Numbers: ER06-319-000.

Applicants: PJM Interconnection, L.L.C.

Description: PJM Interconnection, LLC submits revisions to Schedule 2 of the PJM Open Access Tariff to reflect Allegheny Energy Supply Co, LLC and Monongahela Power Co's revenue requirements etc.

Filed Date: 12/13/2005.

Accession Number: 20051215-0066.

Comment Date: 5 p.m. Eastern Time on Tuesday, January 3, 2006.

Docket Numbers: ER06-321-000.

Applicants: Midwest ISO.

Description: Midwest ISO et al submits revisions to Module D of their Open Access Transmission & Energy Markets Tariff.

Filed Date: 12/14/2005.

Accession Number: 20051219-0281.

Comment Date: 5 p.m. Eastern Time on Wednesday, January 4, 2006.

Docket Numbers: ER06-322-000.

Applicants: Progress Energy Service Company.

Description: Progress Energy Service Company, LLC, on behalf of Florida Power Corp dba Progress Energy Florida, Inc resubmits the Revised NERC Transmission Loading Relief Procedures to comply with FERC's 10/7/05 Order.

Filed Date: 12/13/2005.

Accession Number: 20051219-0282.

Comment Date: 5 p.m. Eastern Time on Tuesday, January 3, 2006.

Docket Numbers: ER06-324-000.

Applicants: Progress Energy Service Company, LLC.

Description: Progrfess Energy Service Company, LLC on behalf of Carolina Power & Light Co dba Progress Energy Carolinas, Inc submits revisions to the Transmission Loading Relief Procedures and request a waiver of the 60 day notice requirement etc.

Filed Date: 12/13/2005.

Accession Number: 20051219-0283.

Comment Date: 5 p.m. Eastern Time on Tuesday, January 3, 2006.

Docket Numbers: ER06-325-000.

Applicants: Central Maine Power Company.

Description: Central Maine Power Co petitions to terminate unexecuted local network service agreements with Mr. Israel Feldmus.

Filed Date: 12/14/2005.

Accession Number: 20051219-0279.

Comment Date: 5 p.m. Eastern Time on Wednesday, January 04, 2006.

Docket Numbers: ER06-329-000.

Applicants: Cadillac Renewable Energy, LLC.

Description: Cadillac Renewable Energy LLC submits First Revised Sheet No. 2 et al to FERC Electric Tariff, First Revised Volume No. 1 to be effective 12/15/05.

Filed Date: 12/14/2005.

Accession Number: 20051219-0292.

Comment Date: 5 p.m. Eastern Time on Wednesday, January 4, 2006.

Docket Numbers: ER06-334-000.

Applicants: New England Power Company.

Description: New England Power Co submits a Fourth Revised Service Agreement No. 23 between itself and the Narragansett Electric Co under its FERC Electric Tariff, Original Volume No. 1.

Filed Date: 12/14/2005.

Accession Number: 20051219-0295.

Comment Date: 5 p.m. Eastern Time on Wednesday, January 4, 2006.

Docket Numbers: ER99-1004-006; ER00-2738-005; ER00-2740-005; ER01-1721-003; ER02-564-003; ER02-73-006; ER02-257-006.

Applicants: Entergy Nuclear Generation Company; Entergy Nuclear FitzPatrick, LLC; Entergy Nuclear Indian Point 3, LLC; Entergy Nuclear Indian Point 2, LLC; Entergy Nuclear Vermont Yankee, LLC; Llano Estacado Wind, LP; Northern Iowa Windpower LLC.

Description: Entergy Services, Inc et al. submits revisions to rate tariffs governing market-based capacity and energy sales in accordance with FERC's 12/17/04 Order.

Filed Date: 12/14/2005.

Accession Number: 20051220-0015.

Comment Date: 5 p.m. Eastern Time on Wednesday, January 4, 2006.

Docket Numbers: ER99-830-014; ER04-925-006.

Applicants: Merrill Lynch Capital Services, Inc.

Description: Merril Lynch Commodities, Inc and Merrill Lynch Capital Services, Inc reports a change in the status in compliance with FERC's 1/20/99 et al Orders.

Filed Date: 12/14/2005.

Accession Number: 20051219-0287.

Comment Date: 5 p.m. Eastern Time on Wednesday, January 4, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket.

Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-8188 Filed 12-30-05; 8:45 am]

BILLING CODE 6717-01-P